DEPARTMENT OF TRANSPORTATION

National Highway Traffic Safety Administration

[Docket No. NHTSA-2021-0009]

Agency Information Collection Activities; Submission to the Office of Management and Budget for Review and Approval; Uniform Procedures for State Highway Safety Grant Programs

AGENCY: National Highway Traffic Safety Administration (NHTSA), Department of Transportation (DOT).

ACTION: Notice and request for comments on a reinstatement of a previously approved information collection.

SUMMARY: In compliance with the Paperwork Reduction Act of 1995 (PRA), this notice announces that the Information Collection Request (ICR) abstracted below will be submitted to the Office of Management and Budget (OMB) for review and approval. The ICR describes the nature of the information collection and its expected burden. This is a request for approval for reinstatement of a previously-approved collection of information for NHTSA's Highway Grant Program, which includes State Highway Safety Program grants, the National Priority Safety Program grants, and a separate grant on racial profiling data collection. The purpose of the information collection is to collect information necessary for NHTSA to issue grants to States. To receive grants, a State must submit a Highway Safety Plan (HSP) that supports its qualifications for receiving grant funds. Specifically, the HSP consists of information on the highway safety planning process, performance report, performance plan, problem identification, highway safety countermeasure strategies, planned activities and funding amounts, certifications and assurances, and application materials that cover Section 405 grants and the reauthorized Section 1906 grant. A Federal Register Notice with a 60-day comment period soliciting comments on the following information collection was published on February 9, 2021. NHTSA received three comments. A summary of the comments and NHTSA's response to those comments is provided below.

DATES: Comments must be submitted on or before April 8, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Barbara Sauers, Regional Operations and Program Delivery, NRO-011, National Highway Traffic Safety Administration, U.S. Department of Transportation, 1200 New Jersey Avenue SE, Washington, DC, 20590; Telephone: 202-366-0144. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted to OMB.

Title: Uniform Procedures for State Highway Safety Grant Programs.

OMB Control Number: 2127-0730.

Form Number: None.

Type of Request: Reinstatement of a previously approved information collection.

Type of Review Requested: Regular.

Length of Approval Requested: Three years from date of approval.

Summary of the Collection of Information:

The Fixing America's Surface Transportation Act (FAST), Public Law 114-94, authorizes the National Highway Traffic Safety Administration (NHTSA) to issue highway safety grants to States under Chapter 4 of Title 23, U.S.C. Specifically, these grant programs include the Highway Safety Program grants (23 U.S.C. 402 or Section 402), the National Priority Safety Program grants (23 U.S.C. 405 or Section 405) and a separate grant on racial profiling data collection contained in a previous authorization that was revised and restored under the FAST Act (Public Law 109-59, Sec. 1906 or Section 1906, as amended by Sec. 4011, Public Law 114-94).

For all of these grants, as directed in statute, NHTSA uses a consolidated application process that relies on the Highway Safety Plan (HSP) that States ¹ submit under the Section 402 program as a single application. The information required to be submitted for these grants includes the HSP consisting of information on the highway safety planning process, performance report, performance plan, problem identification, highway safety countermeasure strategies, projects and funding amounts, certifications and assurances, and application materials that cover Section 405 grants and the reauthorized Section 1906 grant.² States also must submit an annual report evaluating their progress in achieving performance targets. In addition, as part of the statutory criteria for Section 405 grants covering the areas of occupant protection, traffic safety information system improvement and impaired driving countermeasures, States may be required to receive assessments of their State programs in order to receive a grant.³ States must provide information and respond to questions as part of the assessment process.

¹ While the grant programs are available for the 50 States, the District of Columbia, Puerto Rico, U.S. Virgin Islands, Guam, American Samoa, the Commonwealth of the Northern Mariana Islands, and the Bureau of Indian Affairs on behalf of the Indian Country, NHTSA will refer to the respondents to the Uniform Procedures for State Highway Safety Grant Programs information collection as “States.”

² Section 405 grants cover the following: Occupant Protection Grants; State Traffic Safety Information System Improvements Grants; Impaired Driving Countermeasures Grants (including Alcohol-Ignition Interlock Grants and 24-7 Sobriety Program Grants); Distracted Driving Grants; Motorcyclist Safety Grants; State Graduated Driver Licensing Incentive Grants; and Nonmotorized Safety Grants. Section 1906 is a separate racial profiling data collection grant.

³ Under occupant protection grants, one criterion that a State with a lower belt use rate may use to receive a grant is to complete an assessment of its occupant protection program once every three years (23 U.S.C. 405(b)(3)(B)(ii)(VI)(aa)); and another criterion is a comprehensive occupant protection program that includes a program assessment conducted every five years as one of its elements (23 U.S.C. 405(b)(3)(B)(ii)(V)(aa); 23 CFR 1300.21(e)(5)(i)). Under traffic safety system information system improvement grants, a State must have an assessment of its highway safety data and traffic records system once every 5 years in order to receive a grant (23 U.S.C. 405(c)(3)(E)). Under impaired driving countermeasure grants, a State with high average impaired driving fatality rates must have an assessment of its impaired driving program once every 3 years in order to receive a grant. (23 U.S.C. 405(d)(3)(C)(i)(I)).

Consistent with the statute, NHTSA has implemented a final rule that creates uniform procedures for States to apply for grant funds (83 FR 3466, January 25, 2018). These procedures specify the information that is required to be submitted to receive a grant and the type of information required to verify performance under the grants.

As indicated above, States may be required to receive an assessment of certain covered programs in order to be eligible for some grants under Section 405. Separate from these requirements, States also may request assessments in these areas at their discretion. NHTSA uses two different assessment approaches based on the traffic safety area covered. For occupant protection and impaired driving, assessments are based on NHTSA's Uniform Guidelines for State Highway Safety Programs, which are required by Congress and periodically updated through a process that seeks public comment.⁴ State programs are assessed against these uniform guidelines by a team of subject matter experts. The assessment team produces a final report with recommendations on how the State can improve the effectiveness of its program. As part of the process, States provide written materials in response to requests from the assessment team and participate in a comprehensive interview process. For traffic safety information systems, States respond to questions based on NHTSA's Traffic Records Program Assessment Advisory (DOT HS 812 601), which describes an ideal traffic records system. The questions cover nine topical areas and examine how well a State plans, collects, manages, and integrates information from several State traffic records systems.⁵ Responses are evaluated by subject matter experts, and a final report is provided to the State with recommendations for improvement.

⁴ The Uniform Guidelines for State Highway Safety Programs are available online at https://one.nhtsa.gov/nhtsa/whatsup/tea21/tea21programs/index.htm.

⁵ The Traffic Records Program Assessment Advisory is available online at https://crashstats.nhtsa.dot.gov/Api/Public/ViewPublication/812601.

Description of the Need for the Information and Proposed Use of the Information:

As noted above, the statute provides that the HSP is the application basis for grants each fiscal year. The information is necessary to determine whether a State satisfies the Federal criteria for grant awards. The annual report tracks progress in achieving the aims of the grant program. The information is necessary to verify performance under the grants and to provide a basis for improvement. As specified in statute, States may be required to receive an assessment of certain covered programs. In other instances, States may opt to receive an assessment in order to use that assessment as one of several options to qualify for a grant under Section 405. The information provided by a State allows subject matter experts to provide recommendations for the purpose of improving the covered areas.

Public Comments

A Federal Register notice with a 60-day comment period soliciting public comments on the information collection was published on February 9, 2021 (86 FR 8832). NHTSA received three comments from the Governors Highway Safety Association (GHSA), the Tennessee Highway Safety Office, and an anonymous commenter. Comments addressed the timing of the Highway Safety Program applications and Annual Report, estimated burden hours, and the inclusion of other activities in the burden estimates.

General

In general, commenters indicated support for the agency's collection of information and its use of a single, unified annual Highway Safety Plan. Commenters also included other topics unrelated to this PRA which will be addressed separately.

Timing of Highway Safety Plan Application and Annual Report

Commenters raised issues with the timing of the HSP application. Tennessee commented that the “deadline is so early in the year” and that “States need time to look at the previous year's uncertified FARS data (State data) to determine issue areas to address for the upcoming grant year and the most current certified FARS data.” Furthermore, the comment noted that the deadline of July 1 necessitates the use of amendments to supply information not available at the time of the application.

While NHTSA recognizes the potential difficulty in submitting applications by the July 1 application date, NHTSA does not have discretion to adjust the application deadline. The July 1 application date is set forth in statute.⁶ However, NHTSA would like to reiterate that while FARS data is to be used to report progress on the core performance targets, States can use other sources of data to help determine their targets and priority problem areas. It is correct that States that do not know which projects will be funded at the time of application will need to follow up by providing a list of projects in an amendment to their application; however, States can provide this list in any format they choose as long as the four required data elements are included (project agreement number, subrecipient, amount of federal funds, and eligible use of funds). While NHTSA believes that this type of list is common and exists as a normal business practice in most States (and the majority of States (68%) provided a list with their 2021 application) we agree that extra time may be needed. Accordingly, we have adjusted our estimated burden hours (see below).

⁶ 23 U.S.C. 402(k)(2).

Commenters also raised concerns regarding the timing of the annual report. GHSA commented that it is challenging to meet the due date for the annual report due to it coinciding with year-end closeout and the winter holidays. They also noted the new option in the revised 2 CFR 200 ⁷ that allows NHTSA to extend the closeout and reporting deadline from 90 days to 120 days beginning with FY22. The timing of the annual report is set forth in NHTSA's regulation at 23 CFR 1300.35 and was created to align with the 90-day government-wide timing requirements that existed at the time our regulation was published in 2018. As GHSA notes, the government-wide regulation has since been updated to allow a longer, 120-day time frame for closeout and reporting; NHTSA will take this into consideration when we next revise our own implementing regulation. Another commenter said that automating the annual report could help reduce the burden.

⁷ See 85 FR 49506 (Aug. 13, 2020), effective November 12, 2020.

Estimated Burden Hours

Both GHSA and the anonymous commenter stated that they believe NHTSA under-estimated the burden of time involved in developing the HSP and annual report. One State that supplied comments to GHSA suggested that preparing the HSP, including both the Section 402 and 405 grant programs, likely takes over 400 hours. In support, GHSA commented that “HSP development involves not just planning within the SHSO but interaction with other partners as well to select projects and develop agreements.” GHSA acknowledged, however, the difficulty of developing an estimate across States since the number will “differ significantly from State to State.” They added that States do not track time spent meeting these requirements and “are involved in preparing HSPs and Annual Reports intermittently over time in addition to implementing programs and performing other duties.”

NHTSA agrees that an average may not be reflective of the experience of some States. While our initial burden hour estimate is not too dissimilar from GHSA's (380 vs 400), after meeting to discuss the details of their comments, we agree that more time should be added to account for HSP planning activities which were not part of our original estimate. We agree that working with partners is necessary for planning and carrying out the program, but these activities are also normal every-day program planning and operation activities that are not solely needed for the application process. In response to GHSA's comment and after further review of the issues, we have increased the estimate for the HSP application to 410 hours. We also revised our estimate for completing the annual report. One State reported to GHSA that it could take 100-120 hours. While we believe this estimate is high, we have increased our estimate to 80 hours, which is an increase of 40 hours from our original estimate.

GHSA also noted that the time burden required for an assessment is significant. While no commenters provided any estimates for how long assessments take, they expressed that assessments are similar to conference planning and include preparing materials, scheduling participants, making travel arrangements, arranging for audio visual, and coordination of facilities. NHTSA's estimate only covered the background material collection, responding to questions and participating in interviews during the assessment week. In response to these comments, NHTSA has increased the estimated burden hours for occupant protection and impaired driving assessments to 88 hours. For traffic records assessments, NHTSA continues to estimate that the burden hours for a traffic records assessment will be 123 hours per respondent because these assessments are conducted virtually and involve submission of information submitted via email as opposed to through interviews.

Other Comments

While commenting on the 60-day notice, GHSA took the opportunity to include comments regarding other aspects of the grant program, not necessarily related to the information collection request. Some of the comments addressed aspects of the grant program which cannot be changed since they are part of the grant program regulation (23 CFR 1300) or statutes. NHTSA acknowledges these additional topics raised that are unrelated to this information collection request and will respond to them separately through other means.

Affected Public:

This collection impacts the fifty-seven entities that are eligible to apply for grants under the NHTSA Highway Grant Program (the fifty States, the District of Columbia, Puerto Rico, American Samoa, Guam, the Commonwealth of the Northern Mariana Islands, the U.S. Virgin Islands, and the Bureau of Indian Affairs on behalf of the Indian Country).

This collection also impacts the subject matter experts and administrative assistants who are involved in assessments for the grant program. These subject matter experts are recruited by NHTSA based on recommendations from NHTSA Regional Offices and the State Highway Safety Offices. All new occupant protection and impaired driving assessors complete an e-learning course, Conducting Highway Safety Program Assessments.The course is self-paced and entirely on-line. Each impaired driving and occupant protection assessment team consists of five (5) assessors and an administrative assistant. For traffic records assessments, NHTSA uses a contractor to recruit and train the assessors for the online traffic records assessment conducted using NHTSA's Traffic Records Improvement Program Reporting System (TRIPRS). All subject matter experts are current or former members of State Traffic Records Coordinating Committees. There are between 10 to 14 assessors for each traffic records assessment.

Estimated Number of Respondents:

There are 57 potential State respondents (the fifty States, the District of Columbia, Puerto Rico, American Samoa, Guam, the Commonwealth of the Northern Mariana Islands, the U.S. Virgin Islands, and the Bureau of Indian Affairs on behalf of the Indian Country).

NHTSA estimates there will be approximately 260 assessors per year. This estimate includes assessors and administrative assistants. Each occupant protection or impaired driving assessment involves five (5) subject matter experts and one (1) administrative assistant. NHTSA estimates that 13 occupant protection and impaired driving assessments will be completed each year, for a total of 78 respondents. Each traffic records assessment involves approximately thirteen (13) subject matter experts. NHTSA estimates that 14 traffic records assessments are completed each year, for a total of 182 traffic records assessors.

Frequency:

Applications for grant funding and annual reporting are submitted once a year and assessments are conducted once every three or five years.

Number of Responses:

NHTSA estimates that it will receive 57 Section 402 grant applications, 56 Section 405 grant applications (except for impaired driving countermeasures, motorcyclist safety and nonmotorized grants), and 52 Section 405 impaired driving countermeasures, motorcyclist safety and nonmotorized grant applications. These estimates are based on the number of eligible respondents each year for each of the grants.

NHTSA estimates that there will be 9 State responses for assessments for Section 405 occupation protection grants, 14 State responses for assessments for Section 405 traffic safety information system improvement grants, and 4 State responses for assessments for Section 405 impaired driving countermeasures grants annually. Further, NHTSA estimates that there will be 54 subject matter expert responses for Section 405 occupation protection grants, 182 subject matter expert responses for assessments for Section 405 traffic safety information system improvement grants, and 24 subject matter expert responses for assessments for Section 405 impaired driving countermeasures grants.

Estimated Total Annual Burden Hours: 39,550.

The estimated burden hours for the grant application and annual report part of the collection of information are based on all eligible respondents each year for each of the grants:

• Section 402 grants: 57 (fifty States, the District of Columbia, Puerto Rico, the U.S. Virgin Islands, Guam, American Samoa, the Commonwealth of the Northern Mariana Islands, and the Bureau of Indian Affairs);

• Section 405 Grants (except Impaired Driving Countermeasures, Motorcyclist Safety and Nonmotorized Grants) and Section 1906 Grant: 56 (fifty States, the District of Columbia, Puerto Rico, the U.S. Virgin Islands, Guam, American Samoa, and the Commonwealth of the Northern Mariana Islands); and

• Section 405, Impaired Driving Countermeasures, Motorcyclist Safety and Nonmotorized Grants: 52 (fifty States, the District of Columbia, and Puerto Rico).

Under the grant application and annual report requirements for Sections 402 and 405, we estimate that it will take each respondent approximately 490 hours to collect, review and submit the required information to NHTSA (220 burden hours for 402 grant applications, 190 for 405 and 1906 grant applications, and 80 hours for annual reports).⁸ Therefore, NHTSA estimates the total annual burden for Section 402 grant applications to be 12,540 hours (57 respondents × 220 hours), the total annual burden for Section 405 and 1906 grant applications to be 10,640 hours (56 respondents × 190 hours), and the total annual burden for annual reports to be 4,560 (57 respondents × 80 hours).

⁸ Please note that the burden estimates for 405 and 1906 applications are based on every applicant applying for a grant under all program areas. Marginally, this may overestimate the total burden as all applicants will not apply for a grant in each program area each year.

The estimated burden hours for the assessment part of the collection of information are based on the average number of State assessments that are carried out each year in each of the covered grant areas: ⁹ NHTSA estimates that there will be 9 assessments for Section 405 occupant protection grants, 14 assessments for the Section 405 traffic safety information system improvement grants, and 4 assessments for the Section 405 impaired driving grant each year. Based on this information and the hours listed below, the estimated annual burden hours for all State respondents is 2,866 hours.

⁹ Assessment average is based on the total number of assessments conducted each year and divided by the number of years since the inception of assessment requirements for certain grants under MAP-21, Public Law 112-141.

As the requirements for the program assessments vary, the burden for each type is calculated separately. For traffic safety information system improvement grants, we estimate that it takes 123 hours to respond to questions under the assessment. For occupant protection and impaired driving countermeasures grants, we estimate that it takes 88 hours to provide the required information and respond to questions under an assessment.

Commenters did not question NHTSA's estimates for labor cost. For the costs associated with respondents preparing application materials NHTSA used the estimated average wage for “Management Analysts,” Occupation Code 13-1111. The Bureau of Labor Statistics estimates that the average hourly wage for management analysts in State and local government is $31.95.¹⁰ The Bureau of Labor Statistics estimates that wages for State and local government workers represent 61.8% of total compensation costs.¹¹ Therefore, NHTSA estimates the hourly labor costs to be $51.70 and estimates that hourly labor cost associated with preparing materials to be $24,056 per respondent. If all eligible States applied for and received grants for all programs (and including the annual number of assessment responses required from States), the total labor costs on all State respondents would be $1,582,329.

¹⁰ See May 2019 National Industry-Specific Occupational Employment and Wage Estimates, NAICS 336100—Motor Vehicle Manufacturing, available at https://www.bls.gov/oes/current/naics4_999200.htm (accessed January 6, 2021).

¹¹ See Table 1. Employer Costs for Employee Compensation by ownership, available at https://www.bls.gov/news.release/ecec.t01.htm

These estimates are based on every eligible respondent submitting the required information for every available grant. However, not all States apply for and receive a grant each year under each of these programs. In addition, under Section 405 grants, some requirements permit States to submit a single application covering multiple years allowing States to simply recertify in subsequent years.

Table 1—Estimated Burden Hours and Labor Costs for State Respondents
Information collection | Frequency | Number of respondents | Burden hours per respondent | Hourly labor costs | Total labor costs | Total burden hours
Section 402 Grant Application | Yearly | 57 | 220 | $51.70 | $648,318 | 12,540
405 and 1906 Grant Applications | Yearly | 56 | 190 | 51.70 | 550,088 | 10,640
Annual Report | Yearly | 57 | 80 | 51.70 | 235,752 | 4,560
405b Assessment | Every 3 years | 9 | 88 | 51.70 | 40,946 | 792
405c Assessment | Every 5 years | 14 | 123 | 51.70 | 89,027 | 1,722
405d Assessment | Every 3 years | 4 | 88 | 51.70 | 18,198 | 352
Totals |  |  |  |  | $1,582,329 | 30,606

In addition to the burden hours for State respondents, this information collection also involves burden hours for subject matter experts who assess the States and burden hours for administrative assistants. NHTSA estimates the burden on subject matter experts based on the number assessments that will be performed each year, the number of individuals involved with each assessment, and the estimated time for each assessor. As stated above, NHTSA estimates that there will be 9 assessments for Section 405 occupant protection grants, 14 assessments for the Section 405 traffic safety information system improvement grants, and 4 assessments for the Section 405 impaired driving grant each year. Each impaired driving and occupant protection assessment team consists of five (5) assessors and an administrative assistant. For traffic records assessments, there are between 10 to 14 assessors. For purposes of estimate the total annual burden hours, NHTSA estimates that there will be approximately 13 assessors for each traffic records assessment.

For occupant protection and impaired driving assessments NHTSA estimates that assessors spend approximately 80 hours of work on each assessment, based on the following assumptions: 46 hours for the interviews and panel discussions and 34 hours for pre- and post- assessment activities, to include reviewing: (1) Briefing book materials; (2) resources on the State Highway Safety Office's website, and (3) reviewing comments and/or suggestions submitted from the State after their review of the assessment final report.In addition, an administrative assistant is expected to spend approximately 46 hours preparing for the interviews and panel discussions and 18 hours for pre- and post- assessment activities, to include coordinating logistics, assisting team members and editing the document. Therefore, NHTSA estimates the total annual burden for Section 405b (occupant protection) assessment subject matter experts to be 4,176 hours ((5 SME × 80 hours × 9 assessments) + (1 Admin × 64 hours × 9 assessments)) and the total annual burden for Section 405d (impaired driving) assessment subject matter experts to be 1,856 hours ((5 SME × 80 hours × 4 assessments) + (1 Admin × 64 hours × 4 assessments)).

For traffic records assessments (Section 405c), NHTSA estimates that each subject matter expert will spend approximately 16 hours on an assessment. Therefore, NHTSA estimates the total annual burden for traffic records subject matter experts to be 2,912 hours (13 SME × 16 hours × 14 assessments).

To calculate the cost associated with the assessors time, NHTSA uses the costs paid to the assessors. For occupant protection and impaired driving assessments, the State pays each subject matter expert $2,700, which translates to $33.75 per hour and pays each administrative assistant $2,100, which translates to $32.80 per hour. For traffic records assessments NHTSA pays each assessor $2,100 for their time, or $131.25 per hour. Table 2 provides a summary of the burden hours for subject matter expert respondents.

Table 2—Estimated Burden Hours and Labor Costs for Subject Matter Expert Respondents
Information collection | Number of respondents per assessment | Number of assessments per year | Burden hours per respondent | Hourly labor costs | Total labor costs | Total burden hours
405b Assessment (every 3 years) | 5 SME 1 Admin | 9 | 80 64 | $33.75 32.80 | $121,500 18,893 | 3,600 576
405c Assessment (every 5 years) | 13 SME | 14 | 16 | 131.25 | 382,200 | 2,912
405d Assessment (every 3 years) | 5 SME 1 Admin | 4 | 80 64 | 33.75 32.80 | 54,000 8,397 | 1,600 256
Total |  |  |  |  | 584,990 | 8,944

Accordingly, NHTSA estimates the total burden hours for this information collection request is 39,550 hours and the associated labor costs is estimated to be $2,167,319.

Estimated Total Annual Burden Cost: $422,500.

Apart from the costs incurred by States for labor associated with the burden hours, States are expected to incur other costs in conjunction with the assessments. There are other costs involved related to conducting the event such as subject matter expert stipend, travel and per diem. These costs are approximately $32,500 per occupant protection and impaired driving assessment. For the thirteen planned assessments, the cost is estimated to be $422,500.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29.

Issued on March 3, 2022.
Barbara F. Sauers,
Acting Associate Administrator for Regional Operations and Program Delivery.

[FR Doc. 2022-04932 Filed 3-8-22; 8:45 am]

BILLING CODE 4910-59-P